DEPARTMENT OF THE INTERIOR

Bureau of Land Management

[LLIDT02000.L12200000.MA0000.241A.00]

Notice of Extension of Public Comment Period for a Resource Management Plan (RMP) Amendment and Associated Environmental Assessment for the Castle Rocks and Cedar Fields Areas, Burley Field Office, ID

AGENCY: Bureau of Land Management, Interior.

ACTION: Notice of Extension.

SUMMARY: The Bureau of Land Management (BLM) published a Notice of Intent to Prepare a RMP Amendment and Associated Environmental Assessment for the Castle Rocks and Cedar Fields Areas in the Federal Register on August 23, 2011 [76 FR 52687] initiating the public comment period. In response to multiple requests, the BLM is extending the public comment period for the RMP Amendment and Associated Environmental Assessment for the Castle Rocks and Cedar Fields Areas until December 16, 2011.

DATES: The comment period is extended to December 16, 2011.

ADDRESSES: You may submit comments on issues and planning criteria related to Castle Rocks and Cedar Fields Land Use Plan Amendments by any of the following methods:

• Email: id_burley_fo_@blm.gov.

• Fax: (208) 677-6699, Attention: Dennis Thompson

• Mail: 15 East 200 South, Burley, ID 83318

FOR FURTHER INFORMATION CONTACT: For further information and/or to have your name added to our mailing list, contact Dennis Thompson, BLM Outdoor Recreation Planner, telephone (208) 677-6664; address 15 East 200 South, Burley, Idaho 83318; email dennis_thompson@blm.gov. Persons who use a telecommunications device for the deaf (TDD) may call the Federal Information Relay Service (FIRS) at 1-(800)-877-8339 to contact the above individual during normal business hours. The FIRS is available 24 hours a day, 7 days a week, to leave a message or question with the above individual. You will receive a reply during normal business hours.

SUPPLEMENTARY INFORMATION: You may submit comments on issues and planning criteria for the Plan Amendments in writing to the BLM using one of the methods listed in the ADDRESSES section above. To be most helpful, you should submit comments by December 16, 2011.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.5-5

Michael Courtney,
Field Manager.

[FR Doc. 2011-28854 Filed 11-7-11; 8:45 am]

BILLING CODE 4310-GG-P